DEPARTMENT OF HEALTH AND HUMAN SERVICES

Administration for Children and Families

Proposed Information Collection Activity; Comment Request

Proposed Projects

Title: Income Withholding for Support (IWO) (Formerly: Order to Withhold Income for Child Support and Notice of an Order to Withhold Income for Child Support)

OMB No. 0970-0154

Description: Pub. L. 104-193, The Personal Responsibility and Work Opportunity Reconciliation Act (PRWORA) of 1996, Section 324, requires the Federal Office of Child Support Enforcement (OCSE) to develop a standardized form to collect child support payments from an obligor's employer. The form, which promotes standardization and is used for title IV-D and non-IV-D cases that require income withholding, expires 5/31/2007, and the Administration for Children and Families is taking this opportunity to revise the form and its instructions.

Overall, the language and format of the form have been edited, modified, and made easier to read and comprehend. The two-page form provides a detailed legal description of the established order, support amounts, and remittance information an employer needs to withhold payments from an obligor who owes child support. One of the new fields on the form is for the attachment of lump sum payments by employers. This addition allows the issuing entity to instruct the employer with respect to the attachment and remittance of lump sum payments. Fields for child's name and date of birth have been moved to the front of the form, allowing the employer community to easily identify who the form is for and to avoid implementation of duplicate orders. Other changes that have enhanced the form include: A simplified title, clear identification of who is sending the form, and modifications to allow the employer to easily report employee terminations.

Respondents: States, Territories, and Tribes.

Annual Burden Estimates
Instrument | Number of respondents | Number of responses per respondent | Average burden hours per response | Total burden hours
IWO | 54 | 222,222 | .0017 | 20,400
Estimated Total Annual Burden Hours: 20,400.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 7, 2007.
Robert Sargis,
Reports Clearance Officer.

[FR Doc. 07-631 Filed 2-12-07; 8:45 am]

BILLING CODE 4184-01-M